SURFACE TRANSPORTATION BOARD

49 CFR Ch. X

[STB Ex Parte No. 536 (Sub-No. 44)]

Semiannual Regulatory Agenda

AGENCY: Surface Transportation Board.

ACTION: Semiannual regulatory agenda.

SUMMARY: The Acting Chairman of the Surface Transportation Board is publishing the Regulatory Flexibility Agenda for spring 2018.

FOR FURTHER INFORMATION CONTACT: A contact person is identified for each of the rules listed below.

SUPPLEMENTARY INFORMATION: The Regulatory Flexibility Act (RFA), 5 U.S.C. 601 et seq., sets forth a number of requirements for agency rulemaking. Among other things, the RFA requires that, semiannually, each agency shall publish in the Federal Register a Regulatory Flexibility Agenda, which shall contain:

(1) A brief description of the subject area of any rule that the agency expects to propose or promulgate, which is likely to have a significant economic impact on a substantial number of small entities;

(2) A summary of the nature of any such rule under consideration for each subject area listed in the agenda pursuant to paragraph (1), the objectives and legal basis for the issuance of the rule, and an approximate schedule for completing action on any rule for which the agency has issued a general notice of proposed rulemaking; and

(3) The name and telephone number of an agency official knowledgeable about the items listed in paragraph (1).

Accordingly, a list of proceedings appears below containing information about subject areas in which the Board is currently conducting rulemaking proceedings or may institute such proceedings in the near future. It also contains information about existing regulations being reviewed to determine whether to propose modifications through rulemaking.

The agenda represents the Acting Chairman's best estimate of rules that may be considered over the next 12 months, but does not necessarily reflect the views of any other individual Board Member. However, section 602(d) of the RFA, 5 U.S.C. 602(d), provides: “Nothing in [section 602] precludes an agency from considering or acting on any matter not included in a Regulatory Flexibility Agenda or requires an agency to consider or act on any matter listed in such agenda.”

The Acting Chairman is publishing the agency's Regulatory Flexibility Agenda for spring 2018 as part of the Unified Agenda of Federal Regulatory and Deregulatory Actions (Unified Agenda). The Unified Agenda is coordinated by the Office of Management and Budget (OMB), pursuant to Executive Orders 12866 and 13563. The Board is participating voluntarily in the program to assist OMB and has included rulemaking proceedings in the Unified Agenda beyond those required by the RFA.

February 21, 2018.
By the Board, Acting Chairman Begeman.
Jeffrey Herzig,
Clearance Clerk.

Surface Transportation Board—Long-Term Actions
Sequence No. | Title | Regulation Identifier No.
336 | Review of Commodity, Boxcar, and TOFC/COFC Exemptions, EP 704 (Sub-No. 1) | 2140-AB29

SURFACE TRANSPORTATION BOARD (STB)

Long-Term Actions

336. Review of Commodity, Boxcar, and TOFC/COFC Exemptions, EP 704 (Sub-No. 1)

E.O. 13771 Designation: Independent agency.

Legal Authority: 49 U.S.C. 10502; 49 U.S.C. 13301

Abstract: The Board proposed to revoke the class exemptions for the rail transportation of: (1) Crushed or broken stone or rip-rap; (2) hydraulic cement; and (3) coke produced from coal, primary iron or steel products, and iron or steel scrap, wastes, or tailings.

Timetable:

Action | Date | FR Cite
NPRM | 03/28/16 | 81 FR 17125
NPRM Comment Period End | 07/26/16
NPRM Reply Comment Period End | 08/26/16
Next Action Undetermined

Regulatory Flexibility Analysis Required: Yes.

Agency Contact: Scott M. Zimmerman, Acting Director, Office of Proceedings, Surface Transportation Board, 395 E Street SW, Washington, DC 20423-0001, Phone: 202 245-0386, Email: scott.zimmerman@stb.gov.

Francis O'Connor, Section Chief, Chemical & Agricultural Transportation, Surface Transportation Board, 395 E Street SW, Washington, DC 20423-0001, Phone: 202 245-0331, Email: francis.o'connor@stb.gov.

RIN: 2140-AB29

[FR Doc. 2018-11260 Filed 6-8-18; 8:45 am]

BILLING CODE 4915-01-P